CONSUMER PRODUCT SAFETY COMMISSION

[CPSC Docket No. 02-2]

Matter of Daisy Manufacturing Co., d/b/a/ Daisy Outdoor Products, 400 West Stribling Drive, Rogers, AK 72756; Final Prehearing Conference

AGENCY: Consumer Product Safety Commission.

ACTION: Notice of final prehearing conference.

DATES: This notice announces the final prehearing conference to be held in the matter of Daisy Manufacturing Company on April 21, 2003 at 10 a.m.

ADDRESSES: The final prehearing conference will be in room 410 of the Bethesda Towers Building, 4330 East West Highway, Bethesda, Maryland 20814.

FOR FURTHER INFORMATION CONTACT: Todd A. Stevenson, Secretary, U.S. Consumer Product Safety Commission, Washington, DC; telephone (301) 504-7923; telefax (301) 504-0127.

SUPPLEMENTARY INFORMATION: This public notice is issued pursuant to 16 CFR 1025.21(c) of the U.S. Consumer Product Safety Commission's Rules of Practice for Adjudicative Proceedings to inform the public that a prehearing conference will be held in an administrative proceeding under section 15 of the Consumer Product Safety Act (“CPSA”), 15 U.S.C. 2064, and section of the Federal Hazardous Substances Act (“FHSA”), 15 U.S.C. 1274, captioned CPSC Docket No. 02-2, In the Matter of Daisy Manufacturing Company doing business as Daisy Outdoor Products. The Presiding Officer in the proceeding is United States Administrative Law Judge William B. Moran. At this time, the Final Prehearing Conference is planned to be conducted by telephone. Those members of the public attending the conference will be able to listen to the conference, except for such portions, if any, which require that the public be excused. It is also possible that last minute issues may require that the parties' representatives attend the Conference in person.

The public is referred to 16 CFR 1025.21(a) for identification of the issues to be raised at the conference and is advised that the dates, times and places for the hearing also will be noted at this conference.

As stated in the Federal Register Notice announcing the First Prehearing Conference, substantively, the issues being litigated in this proceeding continue to include: Whether certain identified models of the Daisy Powerline Airgun, designed to shoot BBs or pellets, contain defects which create a substantial product hazard defect in that, allegedly, BBs can become lodged within a “virtual magazine,” or fail to feed into the firing chamber, with the consequence that one may fire or shake the gun without receiving any visual or audible indication that it is still loaded. Consequently, the complaint asserts that these alleged problems can lead consumers to erroneously believe that the gun is empty and that such phenomena mean that the gun is “defective” within the meaning of section 15 of the CPSA, 15 U.S.C. 2064 and section 15 of the FHSA, 15 U.S.C. 1274.

The Complaint further alleges that the gun's design, by making it difficult to determine when looking into the loading port whether a BB is present, constitutes a “defect” under the CPSA and the FHSA and presents a “substantial product hazard,” creating a substantial risk of injury to consumers, within the meaning of section 15(a)(2), of the CPSA, 15 U.S.C. 2064(a)(2), and presents a substantial risk of injury to children under sections 15(c)(1) and (c)(2) of the FHSA, 15 U.S.C. 1274(c)(1) and (c)(2). The public should continue to be mindful that these are allegations only and that the CPSC staff bears the burden of proof in establishing any violations. Should these allegations be proven, Complaint Counsel for the Office of Compliance of the U.S. Consumer Product Safety Commission seeks a finding that these products present a substantial product hazard and present a substantial risk of injury to children and that public notification of such hazard and risk of injury be made pursuant to section 15(c) of the CPSA and that other appropriate relief be directed, as set forth in the Complaint.

Dated: February 27, 2003.
Todd A. Stevenson,
Secretary.

[FR Doc. 03-5038 Filed 3-3-03; 8:45 am]

BILLING CODE 6355-01-M